DEPARTMENT OF EDUCATION

Applications for New Awards; Model Demonstration Projects on Reentry of Students With Disabilities From Juvenile Justice Facilities Into Education, Employment, and Community Programs

AGENCY: Office of Special Education and Rehabilitative Services, Office of Special Education Programs, Department of Education.

ACTION: Notice.

Overview Information

Technical Assistance and Dissemination to Improve Services and Results for Children with Disabilities—Model Demonstration Projects on Reentry of Students with Disabilities from Juvenile Justice Facilities into Education, Employment, and Community Programs Notice inviting applications for new awards for fiscal year (FY) 2012.

Catalog of Federal Domestic Assistance (CFDA) Number: 84.326M.

DATES:

Applications Available: May 3, 2012.

Deadline for Transmittal of Applications: June 18, 2012.

Deadline for Intergovernmental Review: August 16, 2012.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1463 and 1481(d)).

Absolute Priority: For FY 2012 and any subsequent year in which we make awards from the list of unfunded applicants from this competition, this priority is an absolute priority. Under 34 CFR 75.105(c)(3) we consider only applications that meet this priority.

This priority is:

Model Demonstration Projects on Reentry of Students With Disabilities From Juvenile Justice Facilities Into Education, Employment, and Community Programs

Background

The purpose of this priority is to support the establishment and operation of three model demonstration projects that will develop, adapt, refine, and evaluate models for facilitating the successful reentry of youth with disabilities from juvenile justice facilities into education, employment, and community programs.

In the 2000-2001 school year, “students ages 6 through 17 [years] with disabilities made up 11.5 percent of the estimated student enrollment for grades prekindergarten through 12th grade” (U.S. Department of Education, 2002, p. II-19). Based on their December 1, 2000 census, State departments of juvenile justice reported that, on average, one-third of the youth in the juvenile justice system had identified disabilities; the State-reported prevalence ranged from 9.1 percent to 77.5 percent (Quinn, Rutherford, Leone, Osher, & Poirier, 2005). In other words, the average prevalence of disability among youth in State juvenile justice systems was nearly three times the prevalence of disability among all youth. Of the youth with disabilities in the juvenile justice system, 47.7 percent were classified with emotional disturbance; 38.6 percent with specific learning disabilities; and 9.7 percent with intellectual disabilities (Quinn et al., 2005).

Each year, nearly 100,000 youth under the age of 18, with and without disabilities, are released from juvenile facilities,¹ jails, or prisons, and reenter society, returning to families, local schools, and community life (Snyder, 2004). According to Bilchik & Altschuler (2010, Slide 4),

¹ The types of juvenile facilities include detention centers, shelters, reception/diagnostic centers, group homes, ranches, wilderness camps, training schools, and residential treatment centers. The facilities are run by State governments, local governments, and private organizations. Some are secure, while others are not equipped to confine youth.

Reentry [to school and community life] refers to those activities and tasks that: prepare out-of-home placed juveniles for reentry into the specific families and communities to which they will return; establish the necessary arrangements and linkages with the full range of public and private sector departments, organizations, and individuals in the community that can address known risk and protective factors; and ensure the delivery of prescribed services and supervision in the community. As this definition implies, the residential facility and the community have a critical role to play in reentry.

Preparation and supports for successful reentry from juvenile justice facilities are even more crucial for youth with disabilities, since “barriers encountered by youth from the juvenile justice system during the transition process are exacerbated when these youth have disabilities” (Clark, 2003, p. 98). At the same time, their outcomes after returning to their communities tend to be worse than their peers without disabilities. For example, a higher percentage of youth with disabilities return to juvenile justice facilities (Bullis, Yovanoff, Meuller, & Havel, 2002), and in a shorter timeframe (Zhang, Barrett, Katsiyannis, & Yoon, 2011), than their peers without disabilities.

Some practices have shown promise in improving outcomes for reentering juveniles. These promising practices frequently include: Intensive educational interventions; multidisciplinary assessments and planning; integrated transition services (i.e., service delivery focused on the youth's reentry to education, employment, and community programs from the beginning of custody); individualized aftercare; interagency collaboration; research-based interventions implemented with fidelity; and evaluation of services, processes, and outcomes (Hogan, Bullock, & Fritsch, 2010; Newell & Salazar, 2010; Wilkins, 2011).

Assessment and planning must be grounded in an understanding of adolescent educational, psychological, cognitive, and emotional development (Scott & Steinberg, 2008). Multiple disciplines and perspectives (i.e., the youth, special educator, parent, juvenile justice case officer, etc.) should identify the juvenile's strengths and needs and develop a plan of interventions to address these needs (Newell & Salazar, 2010; Zhang, Hsu, Katsiyannis, Barrett, & Song, 2011). Studies suggest that focusing on the transition back to school and community from the start of custody increases the likelihood of successful reentry (Newell & Salazar, 2010; Zhang, Barrett, et al., 2011).

Once a youth reenters the community, individualized aftercare continues to provide the planned interventions, which should be identified based on the unique needs of the juvenile (Scott & Steinberg, 2008) and include any court-mandated interventions (Newell & Salazar, 2010). Aftercare services may include, for example, educational and vocational programs, housing assistance, substance abuse and mental health treatment, life skills training, family counseling, and parent education (Baltodano, Platt, & Roberts, 2005; Wilkins, 2011; Zabel & Nigro, 2007).

Interagency collaboration is essential to ensuring that aftercare services are effective. Successful interagency collaboration efforts include case management services and clearly defined expectations and responsibilities among service agencies. Interagency collaboration helps to connect services, such as intensive educational interventions provided in the juvenile facility, with those provided in the community (Bilchik & Altschuler, 2010; Hogan, Bullock, & Fritsch, 2010; Newell & Salazar, 2010).

Implementing research-based interventions with fidelity increases the likelihood of effectiveness (Fixsen, Naoom, Blasé, Friedman, & Wallace, 2005). The evaluation of services, processes, and outcomes provides formative and summative information needed to demonstrate and improve the quality and effectiveness of interventions. Unfortunately, there is limited research on the quality and effectiveness of reentry models to improve the post-release outcomes of youth in juvenile justice facilities who are identified as having disabilities, most of whom have learning disabilities or emotional disturbance. The Office of Special Education Programs (OSEP) intends to support the development and evaluation of model demonstration projects that serve youth with disabilities reentering education, employment, and community programs from juvenile justice facilities.

Priority: The purpose of this priority is to support the establishment and operation of three model demonstration projects that will develop, adapt, refine, and evaluate models for facilitating the successful reentry of youth with disabilities from juvenile justice facilities into education, employment, and community programs. Each model demonstration project must include the following elements: Intensive educational interventions, multidisciplinary assessments and planning, integrated transition services, individualized aftercare, interagency collaboration, research-based interventions implemented with fidelity, and evaluation of services, processes, and outcomes. The projects must be designed to reduce recidivism and to support the successful transition of these youth with disabilities back into their communities. Successful transition must be measured, in part, using data on high school completion, postsecondary education, and employment. For purposes of this priority, the term “youth with disabilities” refers to individuals who are in 7th to 12th grades and are under 18 years of age unless the State where the project is located provides services to students ages 18, 19, 20 or 21 consistent with State law or practice or the order of any court, in which case, the term refers to individuals who are in 7th to 12th grades and are under the maximum age consistent with State law or practice of court order.

To be considered for funding under this absolute priority, applicants must meet the application requirements contained in this priority. Each project funded under this absolute priority also must meet the programmatic and administrative requirements specified in the priority.

Application Requirements. An applicant must include in its application—

(a) A description of a proposed model demonstration project that provides services for youth reentering their schools and communities from juvenile justice facilities. The services must be coordinated among a juvenile justice facility, a student's home school district, and any cooperating community programs (see also the section on Required Activities). The description must include:

(1) Intervention components, including:

(i) Special education and related services, including therapeutic (e.g., mental health, drug treatment, etc.) and transition services, to be provided to the youth with disabilities, and the responsibilities of the proposed project, local educational agency (LEA), school, juvenile justice facility, and any cooperating agencies to provide such services;

(ii) Processes that support the successful transition of youth with disabilities from the juvenile justice facility to education, employment, and community programs, including: Placement in appropriate education programs that provide special education and related services, as described in students' individualized education programs; support, as appropriate, in locating employment, transportation, and housing; and determination of the type, duration, and intensity of needed aftercare services;

(iii) A data plan that outlines the process for assessing, collecting, and sharing ² academic, vocational, behavioral, and developmental data for participating youth with disabilities among the collaborating agencies to support the implementation of the model; and

² Applicants must ensure the confidentiality of individual data, consistent with the requirements of the Family Education Rights and Privacy Act (FERPA) and State laws or regulations concerning the confidentiality of individual records. Final FERPA regulatory changes became effective January 3, 2012, and include requirements for data sharing. Applicants are encouraged to review the final FERPA regulations published on December 2, 2011 (76 FR 75604). Questions can be forwarded to the Family Policy Compliance Office (www.ed.gov/fpco) at (202) 260-3887 or FERPA@ed.gov.

(iv) Description of systems or tools that will be used for storing, managing, analyzing, and reporting data and for communicating among the collaborating agencies and that are necessary to implement the model's services, processes, and data plan.

(2) Implementation components, including the:

(i) Methods and criteria to be used for selecting ³ and recruiting ⁴ at least three schools from at least one LEA, and at least one juvenile justice facility whose students with disabilities are approaching release to these schools, including descriptions of the juvenile facilities, the schools and LEAs, their populations, and whether the LEAs are considered high-poverty, high-need,⁵ rural,⁶ urban, or suburban;

³ For factors to consider when selecting model demonstration sites, the applicant should refer to Assessing Sites for Model Demonstration: Lessons Learned for OSEP Grantees at http://mdcc.sri.com/documents/reports/MDCC_Site_Assessment_Brief_09-30-11.pdf. The document also contains a site assessment tool.

⁴ The applicant must describe who is going to be contacted within the district(s) and how “buy-in” from these and other leaders will be solicited.

⁵ Section 2102(3) of the Elementary and Secondary Education Act of 1965, as amended (ESEA) defines a “high-need LEA” as an LEA—(A)(i) That serves not fewer than 10,000 children from families with incomes below the poverty line (as that term is defined in section 9101(33) of the ESEA);, or (ii) for which not less than 20 percent of the children served by the LEA are from families with incomes below the poverty line; and (B)(i) for which there is a high percentage of teachers not teaching in the academic subjects or grade levels that the teachers were trained to teach; or (ii) for which there is a high percentage of teachers with emergency, provisional, or temporary certification or licensing.

⁶ For purposes of this priority, “rural LEA” means an LEA that is eligible under the Small Rural School Achievement (SRSA) program or the Rural and Low-Income School (RLIS) program authorized under Title VI, Part B of the ESEA. Applicants may determine whether a particular LEA is eligible for these programs by referring to the information on the following Department Web sites. For SRSA: http://www2.ed.gov/programs/reapsrsa/index.html For RLIS: http://www.ed.gov/programs/reaprlisp/eligibility.html.

Note: Applicants are encouraged to identify, to the extent possible, the juvenile facilities, LEAs, and schools willing to participate in the applicant's model demonstration. Final site selection will be determined in consultation with the OSEP Project Officer following the kick-off meeting (see paragraph (e)(1) in the Application Requirements section).

(ii) Strategies to identify and to allocate human resources among the collaborating agencies needed to implement the model;

(iii) Approach to initial and ongoing personnel development or training, including coaching, for personnel involved in implementing the model;

(iv) Approach to measuring fidelity of implementation of the model; and

(v) Approach to measuring the social validity of the model—in other words, measuring the stakeholders' (i.e., service providers', teachers', parents', and students') satisfaction with the model components, processes and outcomes.

(3) Sustainability components, including a plan for:

(i) Transferring the responsibility for project maintenance and support to the collaborating agency personnel at the participating sites by the end of the project period; and

(ii) Continuing the opportunities for training personnel in the collaborating agencies to implement the model, if successful, after the project ends;

(b) A detailed review of the research evidence that supports the effectiveness of the proposed model, its components, and processes with the targeted population(s) and age(s) of youth with disabilities;

(c) A plan and timeline to implement the model described in paragraph (a) of this section that includes details on the elements in the Required Activities section of this priority;

(d) A logic model that depicts, at a minimum, the goals, activities, outputs, and outcomes of the proposed model demonstration project. The logic model must make distinct the contributions of each collaborating agency to the activities, outputs, and outcomes of the proposed project. A logic model communicates how a project will achieve its outcomes and provides a framework for both the formative and summative evaluations of the project; and

Note: The following Web sites provide more information on logic models: www.researchutilization.org/matrix/logicmodel_resource3c.html and www.tadnet.org/model_and_performance.

(e) A budget for attendance at the following:

(1) A one and one half-day kick-off meeting to be held in Washington, DC, after receipt of the award. At the kick-off meeting, OSEP personnel and the grantees, in consultation with the Model Demonstration Coordination Center (MDCC), will develop a project data coordination plan that includes common cross-project data collection instruments, a timeline for collecting these data, and evaluation questions. As part of the cross-project data coordination plan, projects funded under this priority must collect data using common measures that may or may not be the same as those initially proposed by the applicant. These may include student measures; implementation measures such as qualitative descriptions of activities; or site contextual data. The project timeline required under paragraph (c) of this section must be adjusted according to decisions made during kick-off;

(2) A one-day annual planning meeting held in Washington, DC, with the OSEP Project Officer during years 2-4 of the project period;

(3) The three-day Project Directors' Conference in Washington, DC, during each year of the project period; and

(4) Two two-day trips annually to attend Department briefings, Department-sponsored conferences, and other meetings, as requested by OSEP.

Required Activities. To meet the requirements of this priority, each project, at a minimum, must conduct the following activities consistent with the plan proposed in paragraph (c) of the Application Requirements section:

(a) Implement a model demonstration project in the participating schools, LEAs, and juvenile justice facilities that—

(1) Address the individual educational, psychological, cognitive, and emotional needs of youth with disabilities in juvenile justice facilities using culturally responsive principles; ⁷

⁷ Culturally responsive principles promote redesigning the learning environments to support the development and success of all students. Some examples of incorporating culturally responsive principles into learning environments include communicating high expectations to all students, incorporating students' cultural and home experiences into lessons by reshaping the curriculum to reflect students' experiences, and engaging students in activities where they can converse with one another on topics that tap into their background knowledge and experiences (Gay, 2000; King, Artiles, & Kozleski, 2010).

(2) Identify a mentor, coach, educational advocate, or case manager to coordinate the transition of youth with disabilities from custody to community life; and

(3) Establish collaborative processes for service provision among the juvenile justice facility, the LEA, and schools, and appropriate community service providers such as mental health and substance abuse treatment providers, to facilitate the outcomes outlined in paragraphs (b) and (c) in this section.

(b) Include, at a minimum in the project's logic model and data plan, the timeline and plan to collect summative evaluation data on the following outcome measures:

(1) Progress toward and rates of high school completion;

(2) Exploration, application, acceptance, and enrollment in postsecondary education, as age appropriate;

(3) Employment, if age appropriate, or progress to obtain the knowledge and skills that will reasonably enable the youth to meet the goal of employment (e.g., enrollment in courses of study leading to employment);

(4) Number and time lag of referrals to juvenile justice following release from the juvenile justice facility; and

(5) Progress in positive, healthy, and pro-social behaviors (voluntary behaviors intended to benefit another), as reflected by reductions in school disciplinary actions and participation in mental health or substance abuse treatment.

(c) Include, at a minimum, in the project's logic model and data plan, the timeline and plan to collect summative evaluation data on the following system outcomes:

(1) Changes to policies, procedures, or data collection systems in the LEAs, schools, and juvenile facilities, including changes related to information or record sharing,⁸ referrals for services, instruction, assessment, and transition planning;

⁸ As noted elsewhere in this priority, applicants must ensure the confidentiality of individual data, consistent with the requirements of the Family Education Rights and Privacy Act (FERPA) and State laws or regulations concerning the confidentiality of individual records. Final FERPA regulatory changes became effective January 3, 2012, and include requirements for data sharing. Applicants are encouraged to review the final FERPA regulations published December 2, 2011 (76 FR 75604). Questions can be forwarded to the Family Policy Compliance Office (www.ed.gov/fpco) at (202) 260-3887 or FERPA@ed.gov.

(2) Changes to resource allocations in the LEAs, schools, and juvenile facilities, including personnel assignments and transportation costs; and

(3) Estimates of the cost of implementing the model, including costs of the various components of the model.

(d) Implement a formative evaluation plan, consistent with the project's logic model and the data collection plan, to include, as appropriate, periodic collection of student and system data in addition to other largely formative data relating to fidelity of implementation, stakeholder acceptability, and descriptions of the site context. The plan must outline how these data will be reviewed by the project, when they will be reviewed (consistent with the timeline in paragraph (c) under Application Requirements), and how they will be used during the course of the project to adjust the model or its implementation to increase the model's usefulness, generalizability, and potential for sustainability.

Other Project Activities. To meet the requirements of this priority, each project, at a minimum, must conduct the following activities:

(a) Participate in ongoing discussions, facilitated by the MDCC, with the other funded projects concerning the development of a data coordination plan that is common to all funded projects and includes evaluation questions; site data collection instruments; synthesis and analysis of the data; acceptable variations across projects for the measurement of implementation fidelity, model acceptability, and data reliability; and collaborative efforts to disseminate information about the models. Projects must be prepared to share some data with the MDCC in the process of implementing the data coordination plan;

Note: In addition to common data and instrumentation, applicants may propose in the application to collect and analyze data that are not commonly collected by all projects, but that support their particular model demonstration project.

(b) Initiate a detailed documentation process sufficient for model replication purposes, should the model be successful;

(c) Communicate and collaborate on an ongoing basis with Department-funded projects such as the National Dropout Prevention Center for Students with Disabilities (http://www.ndpc-sd.org/), National Secondary Transition Technical Assistance Center (http://www.nsttac.org/), and National Post-School Outcomes Center (http://www.psocenter.org/), to share information on successful strategies and implementation challenges regarding school reentry, dropout prevention, job training, and post-secondary transition for youth with disabilities in the juvenile justice system;

(d) Prior to developing any new product, submit a proposal for the product to the Technical Assistance Coordination Center (TACC) database for approval from the OSEP Project Officer. The development of new products should be consistent with the product definition and guidelines posted on the TACC Web site (www.tadnet.org);

(e) Maintain ongoing telephone and email communication with the OSEP Project Officer and other projects funded under this priority; and

Note: The MDCC will provide support for monthly teleconferences with all projects to discuss cross-project activities.

(f) If the project maintains a Web site, include relevant information about the model demonstration and documents in a form that meets government or industry recognized standards for accessibility.

References:

Baltodano, H. M., Platt, D., & Roberts, C. W. (2005). Transition from secure care to the community: Significant issues for youth in detention. Journal of Correctional Education, 56(4), 372-388.

Bilchik, S., & Altschuler, D. (2010, January 26). Juvenile reentry in concept and practice. Webinar by National Reentry Resource Center and the U.S. Department of Justice, Bureau of Justice Assistance and Office for Juvenile Justice and Delinquency Prevention. Available from http://www.nationalreentryresourcecenter.org/topics/juveniles.

Bullis, M., Yovanoff, P., Mueller, G., & Havel, E. (2002). Life on the “outs”—Examination of the facility-to-community transition of incarcerated youth. Exceptional Children, 69, 7.

Clark, H. G. (2003). Resilience: Gender, disability, and justice status in youth transitioning to school (Doctoral dissertation). Arizona State University. ProQuest Dissertations and Theses. Retrieved from http://search.proquest.com/docview/305339804?accountid=27030.

Fixsen, D. L., Naoom, S. F., Blasé, K. A., Friedman, R. M., & Wallace, F. (2005). Implementation research: A synthesis of the literature. Tampa, FL: University of South Florida, Louis de la Parte Florida Mental Health Institute, The National Implementation Research Network (FMHI Publication #231).

Gay, G. (2000). Culturally responsive teaching: Theory, research, and practice. New York: Teachers College Press.

Hogan, K. A., Bullock, L. M., & Fritsch, E. J. (2010). Meeting the transition needs of incarcerated youth with disabilities. Journal of Correctional Education, 61(2), 133-147.

King, A., Artiles, A. J., & Kozleski, E. (2010). Professional learning for culturally responsive teaching. Retrieved from http://www.equityallianceasu.org/sites/default/files/Website-files/exemplarFINAL.pdf.

Newell, M., & Salazar, A. (2010). Juvenile reentry in Los Angeles County: An exploration of strengths, barriers, and policy options: A report to the 2nd District of Los Angeles. Retrieved from http://www.childrensdefense.org/child-research-data-publications/data/la-county-juvenile-justice.pdf.

Quinn, M. M., Rutherford, R. B., Leone, P. E., Osher, D. M. & Poirier, J. M. (2005). Youth with disabilities in juvenile corrections: A national survey. Exceptional Children, 71, 339-345.

Scott, E. S., & Steinberg, L. (2008). Rethinking juvenile justice. Cambridge, MA: Harvard University Press.

Snyder, H. (2004). An empirical portrait of the youth reentry population. Youth Violence and Juvenile Justice, 2(1), 39-55. doi: 10.1177/1541204003260046.

U.S. Department of Education. (2002). Twenty-fourth annual report to Congress on the implementation of the Individuals with Disabilities Education Act. Washington, DC: Author. Available from http://www2.ed.gov/about/reports/annual/osep/2002/index.html.

Wilkins, J. (2011). Reentry programs for out-of-school youth with disabilities: Part III Characteristics of reentry programs. Clemson, SC: National Dropout Prevention Center for Students with Disabilities, Clemson University. Available from http://www.ndpc-sd.org/knowledge/reentry_programs.php.

Zabel, R., & Nigro, F. (2007). Occupational interests and aptitudes of juvenile offenders: Influence of special education experience and gender. Journal of Correctional Education, 58(4), 337-355.

Zhang, D., Barrett, D. E., Katsiyannis, A., & Yoon, M. (2011). Juvenile offenders with and without disabilities: Risks and patterns of recidivism. Learning & Individual Differences, 21(1), 12-18. doi: 10.1016/j.lindif.2010.09.006.

Zhang, D., Hsu, H.-Y., Katsiyannis, A., Barrett, D. E., & Song, J. (2011). Adolescents with disabilities in the juvenile justice system: Patterns of recidivism. Exceptional Children, 77, 283-296.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 86, 97, 98, and 99.

Note: The regulations in 34 CFR part 79 apply to all applicants except federally recognized Indian tribes.

Note: The regulations in 34 CFR part 86 apply to IHEs only.

II. Award Information

Type of Award: Cooperative agreements.

Estimated Available Funds: $1,200,000.

Contingent upon the availability of funds and the quality of applications, we may make additional awards in FY 2013 from the list of unfunded applicants from this competition.

Estimated Average Size of Award: $400,000.

Estimated Range of Awards: $375,000 to $400,000.

Maximum Awards: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months.

III. Eligibility Information

1. Eligible Applicants: State educational agencies (SEAs); LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and the grant recipients funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.326M.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: May 3, 2012.

Deadline for Transmittal of Applications: June 18, 2012.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 16, 2012.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Number System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications

We are participating as a partner in the Governmentwide Grants.gov Apply site. The Model Demonstration Projects on Reentry of Students with Disabilities from Juvenile Justice Facilities into Education, Employment, and Community Programs competition, CFDA number 84.326M, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the Model Demonstration Projects on Reentry of Students with Disabilities from Juvenile Justice Facilities into Education, Employment, and Community Programs competition at www.Grants.gov. You must search for the downloadable application package for this competition by the CFDA number. Do not include the CFDA number's alpha suffix in your search (e.g., search for 84.326, not 84.326M).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the following address: U.S. Department of Education, Application Control Center, Attention: (CFDA Number 84.326M), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.326M), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under IDEA also have placed additional constraints on the availability of reviewers. Therefore, the Department has determined that for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: David Emenheiser, U.S. Department of Education, 400 Maryland Avenue SW., Room 4116, Potomac Center Plaza (PCP), Washington, DC 20202-2600. Telephone: (202) 245-7556.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 27, 2012.
Alexa Posny,
Assistant Secretary for Special Education and Rehabilitative Services.

[FR Doc. 2012-10692 Filed 5-2-12; 8:45 am]

BILLING CODE 4000-01-P